DEPARTMENT OF TRANSPORTATION

National Highway Traffic Safety Administration

[Docket Nos. NHTSA-2023-0048 and NHTSA-2023-0053; Notice 1]

Cristales Inastillables de México and Volkswagen Group of America, Inc., Receipt of Petitions for Decision of Inconsequential Noncompliance

AGENCY: National Highway Traffic Safety Administration (NHTSA), Department of Transportation (DOT).

ACTION: Receipt of petition.

SUMMARY: Cristales Inastillables de México (Cristales), formerly Vitro Automotriz, S.A. de C.V. (Vitro), and Volkswagen Group of America, Inc., (Volkswagen) (collectively referred to as “the petitioners”) have determined that the Vitro Taos Door Glass panes in certain model year (MY) 2022-2023 Volkswagen Taos motor vehicles do not fully comply with Federal Motor Vehicle Safety Standard (FMVSS) No. 205, Glazing Materials. Vitro filed a noncompliance report dated May 30, 2023, and Volkswagen filed a noncompliance report on July 21, 2023. Cristales petitioned NHTSA (the “Agency”) in June 2023, and Volkswagen petitioned NHTSA on August 14, 2023, for a decision that the subject noncompliance is inconsequential as it relates to motor vehicle safety. This document announces receipt of Cristales and Volkswagen's petitions.

DATES: Send comments on or before October 6, 2025.

ADDRESSES: Interested persons are invited to submit written data, views, and arguments on these petitions. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for these petitions are shown in the heading of this notice.

DOT's complete Privacy Act Statement is available for review in a Federal Register notice published on April 11, 2000 (65 FR 19477-78).

FOR FURTHER INFORMATION CONTACT: Jack Chern, General Engineer, NHTSA, Office of Vehicle Safety Compliance, (202) 366-0661.

SUPPLEMENTARY INFORMATION:

I. Overview: The petitioners determined that Vitro Taos Door Glass panes equipped in certain MY 2022-2023 Volkswagen Taos motor vehicles do not fully comply with paragraph S6.2 of FMVSS No. 205, Glazing Materials (49 CFR 571.205).

Vitro filed a noncompliance report dated May 30, 2023, and Volkswagen filed a noncompliance report dated July 21, 2023, pursuant to 49 CFR part 573, Defect and Noncompliance Responsibility and Reports. Cristales petitioned NHTSA on June 2023,¹ and Volkswagen petitioned NHTSA on August 14, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

¹ The exact date the paper filing was submitted to NHTSA cannot be discerned; the filing was scanned into the manufacturer portal on July 6, 2024.

This notice of receipt of the petitioners' petitions is published under 49 U.S.C. 30118 and 30120 and does not represent any agency decision or another exercise of judgment concerning the merits of the petitions.

II. Equipment and Vehicles Involved: Approximately 46,400 Taos Front Door Tintex Glass, Taos Rear Door Tintex Glass, and Taos Rear Door Filtraplus Glass with incorrect glazing manufacturer DOT code manufactured by Cristales between June 20, 2022, and May 1, 2023; and approximately 62,685 MY 2022-2023 Volkswagen Taos motor vehicles with front and rear door window glass that included the incorrect glazing manufacturer DOT code were reported by the vehicle manufacturer.

III. Rule Requirements: Paragraph S6.2 of FMVSS No. 205 includes the requirements relevant to these petitions. A prime glazing manufacturer certifies its products by adding the symbol “DOT” and a manufacturer's code assigned by NHTSA to the required markings specified in section 7 of ANSI/SAE Z26.1-1996.

IV. Noncompliance: The petitioners explain that the subject glazing material contains a manufacturer's code that is incorrect, and therefore, does not comply with paragraph S6.2 of FMVSS No. 205. Specifically, the subject glazing materials contain the manufacturer's code “DOT287,” when they should be marked with the manufacturer's code “DOT540.”

V. Summary of the Petitioners' Petitions: The following views and arguments presented in this section, “V. Summary of the Petitioners' Petitions,” are the views and arguments provided by the petitioners. They have not been evaluated by the Agency and do not reflect the views of the Agency. The petitioners describe the subject noncompliance and contend that the noncompliance is inconsequential as it relates to motor vehicle safety.

The petitioners explain that the subject glazing material is incorrectly marked with the manufacturer's code assigned to Vitro Flex because the labels were not updated following the relocation of production from one Cristales plant to another on June 20, 2022.

The petitioners believe that the subject noncompliance is inconsequential to motor vehicle safety because the certification mark on the subject glazing materials, despite having an incorrect manufacturer's code, contains the correct part and model number and meets the performance requirements prescribed by FMVSS No. 205. Because the subject glazing materials contain the accurate part number, the petitioners argue that the subject noncompliance is unlikely to lead to the use of an incorrect replacement part in an original equipment manufacturer (OEM) application since parts would be ordered using the OEM's unique part number rather than the “DOT” number.

Volkswagen states that the subject window glass meets all technical specifications and performance requirements of FMVSS No. 205 and also points out that the stated purpose of FMVSS No. 205 is “to reduce injuries resulting from impact to glazing surfaces, to ensure a necessary degree of transparency in motor vehicle windows for driver visibility, and to minimize the possibility of occupants being thrown through the vehicle windows in collisions.” Volkswagen asserts that, because the subject glass panes meet all transparency and impact requirements, Volkswagen does not believe that the incorrect manufacturer's code marking impacts the ability of the subject glass panes to satisfy the stated purpose of FMVSS No. 205.

After determining the noncompliance, Volkswagen took steps to stop the sale of new vehicles impacted by this noncompliance until the repair could be completed by dealers. Volkswagen mailed dealers new labels for the window glass that contain the correct prime glazing manufacturer DOT code. Cristales has since updated the FMVSS 205 required certification mark to contain the correct manufacturer's code. Taos vehicles produced after July 14, 2023, have front and rear window glass containing the correct manufacturer's code mark. Volkswagen also states that it has not received any consumer complaints, claims, or warranty claims related to the subject noncompliance.

The petitioners conclude by stating their belief that the subject noncompliance is inconsequential as it relates to motor vehicle safety and their petitions to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on these petitions only apply to the subject equipment that the petitioners no longer controlled at the time it determined that the noncompliance existed. However, any decision on these petitions does not relieve equipment and vehicle distributors and dealers of the prohibitions on the sale, offer for sale, or introduction or delivery for introduction into interstate commerce of the noncompliant equipment and vehicles under their control after the petitioners notified them that the subject noncompliance existed.

(Authority: 49 U.S.C. 30118, 30120: delegations of authority at 49 CFR 1.95 and 501.8)

Otto G. Matheke, III,
Director, Office of Vehicle Safety Compliance.

[FR Doc. 2025-16912 Filed 9-3-25; 8:45 am]

BILLING CODE 4910-59-P